DEPARTMENT OF HEALTH AND HUMAN SERVICES

Centers for Disease Control and Prevention

[60Day-12-12AN]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call (404) 639-5960 and send comments to Daniel Holcomb, CDC Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Biomonitoring of Great Lakes Populations Program—New—Agency for Toxic Substances and Disease Registry (ATSDR), Department of Health and Human Services (DHHS).

Background and Brief Description

The Great Lakes Basin has suffered decades of pollution and ecosystem damage. In 1987, the Great Lakes Water Quality Agreement listed 40 Areas of Concern (AOCs) representing the most polluted areas in the Great Lakes Basin. Many chemicals persist in Great Lakes sediments, as well as in wildlife and humans. These chemicals can build up in the aquatic food chain. Eating contaminated fish is a known route of human exposure.

In 2009, the Great Lakes Restoration Initiative (GLRI) was enacted as Public Law 111-88. The GLRI makes Great Lakes restoration a national priority for 16 Federal agencies. The GLRI is led by the U.S. Environmental Protection Agency (US EPA). Under a 2010 interagency agreement with the US EPA, the Agency for Toxic Substances and Disease Registry (ATSDR) announced a funding opportunity called the “Biomonitoring of Great Lakes Populations Program” (CDC-RFA-TS10-1001).

This applied public health program aims to measure Great Lakes chemicals in human blood and urine. These measures will be a baseline for the GLRI and future restoration activities. The measures will be compared to available national estimates. This program also aims to take these measures from people who may be at higher risk of harm from chemical exposures.

Three states were funded for this program: Michigan, Minnesota, and New York. The health departments in these states will look at seven AOCs and four types of sensitive adults: Michigan—urban anglers in the Detroit River and the Saginaw River and Bay AOCs; Minnesota—American Indians from the Fond du Lac Community near the St. Louis River AOC; and New York—licensed anglers and immigrants from Burma and their family members living in four Lake Ontario and Lake Erie AOCs. These include the Rochester Embayment AOC, the Eighteenmile Creek AOC, and the AOCs along the Niagara and Buffalo Rivers.

Each state will use its own way to ask people to take part in the study. In Michigan, people fishing along the shores of the Detroit River and Saginaw River and Bay will be asked a few questions to see if they are willing to take part in the study. In Minnesota, American Indians will be randomly chosen from a list of people who get local health clinic and social services. They will be contacted by trained staff to take part in the study. In New York, names from the state licensed angler database will be chosen at random. These people will be contacted by mail and telephone to take part in the study. Another group, immigrants who moved from Burma to Buffalo, NY, will work with trained study staff to get their people to take part in the study.

All respondents who consent will give blood and urine specimens. Their blood and urine will be tested for polychlorinated biphenyls (PCBs), mercury, lead, and pesticides. Pesticides will include mirex, hexachlorobenzene, dichlorodiphenyltrichloroethane (DDT) and dichlorodiphenyldichloroethylene (DDE)]. Each state will test blood and urine for other chemicals of local concern. Respondents will also be interviewed. They will be asked about demographic and lifestyle factors, hobbies, and types of jobs, which can contribute to chemical exposure. Some diet questions will be asked, too, with a focus on eating Great Lakes fish. There is no cost to respondents other than their time spent in the study.

The ATSDR is authorized to conduct this program under the Comprehensive Environmental Response, Compensation, and Liability Act of 1980, as amended by the Superfund Amendments and Reauthorization Act of 1986.

Estimated Annualized Burden Hours
Type of respondent | Form name | Number of respondents | Number responses per respondent | Average burden per response (in hours) | Total burden hours
Michigan Shoreline Anglers | Screening Questionnaire | 700 | 1 | 5/60 | 58
| Telephone Questions for Scheduling Appointments | 500 | 1 | 7/60 | 58
| Informed Consent | 400 | 1 | 1/60 | 7
| Biomonitoring Questionnaire | 400 | 1 | 54/60 | 360
American Indians from Fond du Lac Community | Calling Script | 625 | 1 | 5/60 | 52
| Refusal Questions | 125 | 1 | 2/60 | 4
| Informed Consent | 500 | 1 | 3/60 | 25
| Contact Information | 500 | 1 | 2/60 | 17
| Study Participant Questionnaire | 500 | 1 | 30/60 | 250
| Clinic Visit Incentive Record | 500 | 1 | 3/60 | 25
New York State Licensed Anglers | Eligibility Screening Survey | 600 | 1 | 5/60 | 50
| Online Eligibility Screening Survey | 900 | 1 | 5/60 | 75
| Telephone Script for Non-responders | 1000 | 1 | 5/60 | 83
| Telephone Script for Calling Eligible Respondents | 300 | 1 | 5/60 | 25
| Informed Consent | 400 | 1 | 1/60 | 7
| Interview Questionnaire | 400 | 1 | 30/60 | 200
Immigrants from Burma and Descendents | Eligibility Screening Survey | 184 | 1 | 5/60 | 15
| Informed Consent | 100 | 1 | 1/60 | 2
| Interview Questionnaire | 100 | 1 | 1 | 100
| Network Size Questions for Respondent Driven Sampling | 100 | 1 | 5/60 | 8
Total |  |  |  |  | 1,421

Dated: October 28, 2011.
Daniel Holcomb,
Reports Clearance Officer, Centers for Disease Control and Prevention.

[FR Doc. 2011-28564 Filed 11-3-11; 8:45 am]

BILLING CODE 4163-18-P